DEPARTMENT OF HOMELAND SECURITY

[Docket No. DHS-2018-0022]

Soft Target Countermeasure Surveys

AGENCY: Office of Infrastructure Protection (IP), National Protection and Programs Directorate (NPPD), Department of Homeland Security (DHS).

ACTION: 60-Day notice and request for comments; new collection, 1670—NEW.

SUMMARY: DHS NPPD IP will submit the following information collection request (ICR) to the Office of Management and Budget (OMB) for review and clearance in accordance with the Paperwork Reduction Act of 1995. NPPD IP is contracting a study to analyze a broad set of business security measures in terms of their costs and spillover effects, with an emphasis on identifying security measures that had a positive effect. Additionally, NPPD IP will survey the businesses' customers to evaluate the public's perceptions of the security measures, and evaluate the enhanced security measures on business operations and customers' responses.

DATES: Comments are encouraged and will be accepted until August 20, 2018.

ADDRESSES: You may submit comments, identified by docket number DHS-2018-0022, by one of the following methods:

• Federal eRulemaking Portal: http://www.regulations.gov. Please follow the instructions for submitting comments.

• Email: Bill.Schweigart@HQ.DHS.GOV. Please include docket number DHS-2018-0022 in the subject line of the message.

• Mail: Written comments and questions about this Information Collection Request should be forwarded to DHS/NPPD/IP, ATTN: 1670—NEW, 245 Murray Lane SW, Mail Stop 0608, Bill Schweigart, Arlington, VA 20528.

Instructions: All submissions received must include the words “Department of Homeland Security” and the docket number for this action. Comments received will be posted without alteration at http://www.regulations.gov, including any personal information provided.

Comments submitted in response to this notice may be made available to the public through relevant websites. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

FOR FURTHER INFORMATION CONTACT: For specific questions related to collection activities, please contact Bill Schweigart at 703-603-5148 or at Bill.Schweigart@HQ.DHS.GOV.

SUPPLEMENTARY INFORMATION: Title II of the Homeland Security Act of 2002 (Pub. L. 107-296), as amended (2006), directs the DHS to coordinate all Federal homeland security activities, including infrastructure protection. On behalf of DHS, NPPD IP manages the Department's program to protect and enhance the resilience of the Nation's physical and cyber infrastructure within the 16 critical infrastructure sectors designated by Presidential Policy Directive 21 Critical Infrastructure Security and Resilience (PPD-21) (February 2013) by implementing the National Infrastructure Protection Plan (NIPP) 2013: Partnering for Critical Infrastructure Security and Resilience. NPPD IP accomplishes their mission by building sustainable partnerships with its public and private sector stakeholders to enable more effective sector coordination, information sharing, and program development and implementation.

The Homeland Security Act of 2002, as amended (2006), also grants DHS the authority to create university-based Centers of Excellence (COEs) using grants, cooperative agreements and contracts. The COEs are authorized by Congress and selected by DHS Science and Technology Directorate (S&T) through a competitive selection process. Among the COEs is The National Center for Risk & Economic Analysis of Terrorism Events (CREATE) at The University of Southern California. The Strategic Sourcing Program Office for DHS has approved the Basic Ordering Agreements (BOAs) for DHS-wide use. Any and all DHS Components requiring the research, analysis, and/or services of the COEs described in the COE BOAs may issue Task Orders under the BOAs through their assigned warranted Contracting Officers.

NPPD IP is contracting a study through the approved BOA with CREATE to analyze a broad set of security measures in terms of their costs and spillover effects, with an emphasis on identifying security measures that had a positive effect. This includes examining a broad range of measures including increased police/security guard presence and other non- or less-invasive options. NPPD IP will work with business leaders to identify locations that have implemented various security measures already, and develop and administer surveys for statistical analysis and modeling. Additionally, NPPD IP will survey the businesses' customers to evaluate the public's perceptions of the security measures, and evaluate the enhanced security measures on business operations and customers' responses.

CREATE will work with NPPD personnel to identify locations that have implemented various security measures already, and develop and administer surveys for statistical analysis and modeling. Management professionals (Chief Operating Officers, Head of Marketing, and Head of Security) from five selected businesses will be asked questions tailored to the five specific businesses regarding current and planned safety measures, management understanding of customer perceptions of security measures, management beliefs about the impacts of security measures, management beliefs about how security measures change customer behaviors and business volume, and some select demographic information. This will be conducted as a structured interview, herein referred to as “Business Structured Interview”, and is needed to obtain necessary and relevant data for subsequent economic analyses. The purpose of these analyses is to evaluate whether specific counterterrorism efforts have a negative or positive impact on the company in question.

CREATE will administer a customer survey, herein referred to as “Customer Survey”, regarding awareness of countermeasures in the Commercial Facilities sector, attitudes and perceptions toward safety, impacts (physical, psychological, and monetary) countermeasures have on customers, and select demographic and individual difference questions. There will be five variations of this survey targeted to each of the five specific businesses with slight variations in the language as a result, however the same information is being sought from the groups. These surveys are intended to create an understanding of the impacts of security countermeasures on customers/visitors' perceptions and behaviors at each of the specific target businesses selected.

Information will be analyzed to determine whether the spillover effects are positive and negative and to what extent. Statistical analysis of the results will identify the direct impacts. These will be fed into an economy-wide modeling approach known as computable general equilibrium (CGE) analysis to determine the “ripple” effects on the entire local economy. The analysis will be performed with an eye toward uncertainty analysis, as well in terms of the framing of survey questions and, rigorously specifying the confidence intervals for the statistical results.

The DHS and CREATE research team will use the information being collected in order to inform the study described above.

The Business Structured Interview will be conducted as interviews, either in-person or via video conferencing that will have a list of questions to help structure and guide discussions. The Customer Survey will be created and sent utilizing a professional-grade software, “Research Core,” by Qualtrics. The software allows the researchers to send customized email invitations to respondents, track their progress, and prevent fraud and abuse of the survey.

This is a new information collection.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Title of Collection: Soft Target Countermeasure Surveys.

OMB Control Number: 1670—NEW.

Frequency: Annually.

Affected Public: Private and Public Sector.

Number of Respondents: 2,020.

Estimated Time per Respondent: 25 minutes.

Total Burden Hours: 677 hours.

Total Burden Cost (capital/startup): $0.

Total Recordkeeping Burden: $0.

Total Burden Cost (operating/maintaining): $0.

David Epperson,
Chief Information Officer.

[FR Doc. 2018-13067 Filed 6-18-18; 8:45 am]

BILLING CODE 9110-9P-P